INTERNATIONAL TRADE COMMISSION

[USITC SE-04-007]

Sunshine Act Meeting

AGENCY: International Trade Commission.

Time and Date: April 7, 2004 at 11 a.m.

Place: Room 101, 500 E Street SW., Washington, DC 20436, Telephone: (202) 205-2000.

Status: Open to the public.

Matters to be Considered: 1. Agenda for future meetings: none.

2. Minutes.

3. Ratification List.

4. Inv. Nos. 731-TA-1039-1040 (Final)(Certain Wax and Wax/Resin Thermal Transfer Ribbons from France and Japan)—briefing and vote. (The Commission is currently scheduled to transmit its determination and Commissioners' opinions to the Secretary of Commerce on or before April 19, 2004.)

5. Outstanding action jackets: none.

In accordance with Commission policy, subject matter listed above, not disposed of at the scheduled meeting, may be carried over to the agenda of the following meeting.

By order of the Commission:
Issued: March 31, 2004.
Marilyn R. Abbott,
Secretary to the Commission.

[FR Doc. 04-7759 Filed 4-1-04; 12:05 pm]

BILLING CODE 7020-02-P